DEPARTMENT OF TRANSPORTATION

Federal Railroad Administration

[Docket Number FRA-2013-0081]

Petition for Waiver of Compliance

Under part 211 of Title 49 Code of Federal Regulations (CFR), this document provides the public notice that on April 4, 2018, the Association of American Railroads (AAR) petitioned the Federal Railroad Administration (FRA) for a Special Approval of certain industry standards in accordance with the Federal railroad safety regulations contained at 49 CFR 231.33, Procedure for special approval of existing industry safety appliance standards, and 49 CFR 231.35, Procedure for modification of an approved industry safety appliance standard for new railcar construction. FRA assigned the petition Docket Number FRA-2013-0081.

AAR, on behalf of itself and its member railroads, submitted a petition for special approval of existing industry safety appliance standards contained in 49 CFR part 231, Railroad Safety Appliance Standards, and minor edits to AAR Standard S-2044 and its appendices that have been previously approved by the FRA. Specifically, AAR requests approval of the standards and specifications delineated in AAR Standard S-2044, Appendices F4, Safety Appliances for Side-Dump Cars, and J1, Safety Appliances for Rail-Compatible Vehicles. Appendices F4 and J1 were not included in the version of AAR Standard S-2044 approved March 29, 2016, and are entirely new. AAR also seeks approval of minor clarifying edits to previously-approved AAR Standard S-2044 and its appendices. AAR Standard S-2044 and its appendices have been developed to serve as requirements for safety appliance arrangements. The revised standard and its appendices are to be applied to new railroad freight cars, if approved by FRA.

AAR Standard S-2044 was established by the AAR Safety Appliance Task Force (Task Force), which was created by AAR's Equipment Engineering Committee (EEC) to develop industry standards for safety appliance arrangements on modern railcar types not explicitly covered by 49 CFR part 231. The Task Force consists of representatives from Class I railroads, labor unions, car builders, private car owners, and shippers, along with ergonomics experts and government representatives from FRA and Transport Canada who participate as non-voting members. The Task Force drafted a base safety appliance standard for all car types, plus industry safety appliance standards for specific car types. These industry standards have been adopted by AAR's Engineering Equipment Committee and, with FRA's approval, will serve as the core criteria for safety appliance arrangements on railcars that are more specialized in design.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by June 15, 2018 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
Robert C. Lauby,
Associate Administrator for Railroad Safety Chief Safety Officer.

[FR Doc. 2018-09120 Filed 4-30-18; 8:45 am]

BILLING CODE 4910-06-P